DEPARTMENT OF STATE

[Public Notice 4545]

Bureau of Political-Military Affairs: Directorate of Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to sections 36(c) and 36(d) and in compliance with section 36(f) of the Arms Export Control Act (22 U.S.C. 2776).

EFFECTIVE DATE: As shown on each of the eleven letters.

FOR FURTHER INFORMATION CONTACT: Mr. Peter J. Berry, Director, Office of Defense Trade Controls Licensing, Directorate of Defense Trade Controls, Bureau of Political-Military Affairs, Department of State (202 663-2700).

SUPPLEMENTARY INFORMATION: Section 36(f) of the Arms Export Control Act mandates that notifications to the Congress pursuant to sections 36(c) and 36(d) must be published in the Federal Register when they are transmitted to Congress or as soon thereafter as practicable.

Dated: November 20, 2003.
Peter J. Berry,
Director, Office of Defense Trade Controls Licensing, Directorate of Defense Trade Controls, Bureau of Political-Military Affairs, Department of State.

September 25, 2003.

Dear Mr. Speaker: Pursuant to Section 36(c) of the Arms Export Control Act, I am transmitting, herewith, certification of a proposed license for the export of major defense equipment and defense services in the amount of $25,000,000 or more.

The transaction contained in the attached certification involves a notification for the export to the Hellenic Army for the acquisition and support of twelve AH-64D Apache helicopters, spare parts and associated support equipment.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 102-03.

The Honorable J. Dennis Hastert, Speaker of the House of Representatives.

September 29, 2003.

Dear Mr. Speaker: Pursuant to Section 36(c) of the Arms Export Control Act, I am transmitting, herewith, certification of a proposed license for the export of defense articles or defense services sold commercially under a contract in the amount of $50,000,000 or more.

The transaction contained in the attached certification involves an upgrade of the GD-53 Radar installed on the Indigenous Defensive Fighter (IDF)/Ching Kuo aircraft for Taiwan.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 088-03.

The Honorable J. Dennis Hastert, Speaker of the House of Representatives.

October 2, 2003.

Dear Mr. Speaker: Pursuant to Section 36(c) and (d) of the Arms Export Control Act, I am transmitting, herewith, certification of a proposed manufacturing license agreement for the manufacture of major defense equipment abroad and the export of defense articles or defense services sold commercially under a contract in the amount of $25,000,000 or more.

The transaction contained in the attached certification involves the export of technical data, defense hardware and hardware to support the production and manufacture of Multiple Launch Rocket Systems (MLRS) M270 Launchers, Multiple Launch Pod Assembly Trainers and Reduced Range Practice Rockets, including associated components and spare parts, for the Japanese Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 089-03.

The Honorable J. Dennis Hastert, Speaker of the House of Representatives.

October 3, 2003.

Dear Mr. Speaker: Pursuant to Section 36(c) of the Arms Export Control Act, I am transmitting, herewith, certification of a proposed license for the export of defense articles or defense services sold commercially under a contract in the amount of $100,000,000 or more.

The transaction contained in the attached certification concerns exports of technical data and defense services for the sale, delivery and support of the ASTRA 1KR and ASTRA 1L commercial communications satellites to Luxembourg and, in the case of the former, subsequent launch from French Guiana.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DDTC 099-03.

The Honorable J. Dennis Hastert, Speaker of the House of Representatives.

October 15, 2003.

Dear Mr. Speaker: Pursuant to Section 36(c) and (d) of the Arms Export Control Act, I am transmitting, herewith, certification of a proposed license for the export of defense articles or defense services sold commercially under a contract in the amount of $100,000,000 or more.

The transaction contained in the attached certification involves the export to the United Kingdom of technical data, defense services and defense hardware for the manufacture of the MPR-9600 HF tactical radio system, which will thereafter be re-exported to Brazil, Chile, Ghana, Hungary, Jamaica, Peru, Saudi Arabia, The United Arab Emirates and the United States.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 098-03.

The Honorable J. Dennis Hastert, Speaker of the House of Representatives.

October 15, 2003.

Dear Mr. Speaker: Pursuant to Section 36(c) of the Arms Export Control Act, I am transmitting, herewith, certification of a proposed license for the export of defense articles and defense services sold under a contract in the amount of $50,000,000 or more.

The transaction contained in the attached certification involves a notification for the export to the Kuwaiti Ministry of Defense of defense articles, technical data and defense services to support installation, maintenance and training of SINCGARS RT-1702EE VHF communication systems.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 100-03.

The Honorable J. Dennis Hastert, Speaker of the House of Representatives.

October 17, 2003.

Dear Mr. Speaker: Pursuant to Section 36(c) of the Arms Export Control Act, I am transmitting, herewith, certification of a proposed license for the export of defense articles or defense services sold under a contract in the amount of $100,000,000 or more.

The transaction contained in the attached certification involves the export to Japan of one 767 Tanker Transport Aircraft plus support equipment/material and the option for three additional aircraft to the Japan Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 090-03.

The Honorable J. Dennis Hastert, Speaker of the House of Representatives.

October 17, 2003.

Dear Mr. Speaker: Pursuant to Section 36(c) of the Arms Export Control Act, I am transmitting, herewith, certification of a proposed license for the export of defense articles or defense services sold commercially under a contract in the amount of $100,000,000 or more.

The transaction contained in the attached certification involves the export of technical data and assistance in the manufacture of the AIM/RIM-7M Sparrow Missile system pursuant to the “Memorandum of Understanding” between the United States and the Government of Japan for end-use by the Japanese Defense Agency.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 091-03.

The Honorable J. Dennis Hastert, Speaker of the House of Representatives.

October 17, 2003.

Dear Mr. Speaker: Pursuant to Section 36(c) of the Arms Export Control Act, I am transmitting, herewith, certification of a proposed manufacturing license agreement for the manufacture of significant military equipment abroad and the export of defense articles or defense services in the amount of $100,000,000 or more.

The transaction contained in the attached certification involves the export of defense services, technical data and defense articles to the United Kingdom, France and Germany to support the manufacture of various transmit/receive modules and components of the Counter Battery Radar (COBRA) program for use by the Governments of France, Germany and the United Kingdom.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 095-03.

The Honorable J. Dennis Hastert, Speaker of the House of Representatives.

October 17, 2003.

Dear Mr. Speaker: Pursuant to Section 36(c) of the Arms Export Control Act, I am transmitting, herewith, certification of a proposed license for the export of defense articles or defense services sold commercially under a contract in the amount of $100,000,000 or more.

The transaction contained in the attached certification involves a renotification for the export to The Netherlands of defense articles and defense services to support the Dutch maintenance of Harpoon missile systems and canisters belonging to The Netherlands, Denmark, Germany, Greece and Portugal.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly, Assistant Secretary, Legislative Affairs.

Enclosure: Transmittal No. DTC 096-03.

The Honorable J. Dennis Hastert, Speaker of the House of Representatives.

October 23, 2003.

Dear Mr. Speaker: Pursuant to Section 36(c) of the Arms Export Control Act, I am transmitting, herewith, certification of a proposed license for the export of defense articles and services in the amount of $50,000,000 or more.

The transaction contained in the attached certification involves the temporary export of Telstar 18 (formerly APSTAR V) Commercial Communications Satellite and its launch from international waters in the Pacific Ocean.

The United States Government is prepared to license the export of these articles and services having taken into account political, military, economic, human rights and arms control considerations.

More detailed information is contained in the formal certification which, though unclassified, contains business information submitted to the Department of State by the applicant, publication of which could cause competitive harm to the United States firm concerned.

Sincerely,

Paul V. Kelly, Assistant Secretary, Legislative Affairs.

Enclosure: Transmittal No. DTC 101-03.

The Honorable J. Dennis Hastert, Speaker of the House of Representatives.

[FR Doc. 03-29817 Filed 11-28-03; 8:45 am]

BILLING CODE 4710-25-P